DEPARTMENT OF DEFENSE

Notice of Availability of a Finding of No Significant Impact for the Transport of Polychlorinated Biphenyl-Containing Items From Japan and Wake Island to the United States

AGENCY: Defense Logistics Agency.

ACTION: Notice of a finding of no significant impact.

SUMMARY: The Defense Logistics Agency announces the availability of the Final Environmental Assessment and the Finding of No Significant Impact for the Transport of Polychlorinated Biphenyl-Containing Items from Japan and Wake Island to the United States. The final environmental assessment evaluates the environmental impacts of the transport to the United States, from military bases in Japan and Wake Island, of approximately seven million pounds of obsolete electrical equipment and related materials (including liquids and packaging materials) containing polychlorinated biphenyls. Treatment and disposal will be conducted in accordance with Environmental Protection Agency approved methods. The environmental assessment determined that neither transportation alternative (shipment by water or shipment by air) is likely to result in an accidental release of polychlorinated biphenyls or have a significant impact on the environment or public safety. The No Action alternative was not adopted, as it was not considered a feasible solution for continuing accumulations of this material. As a result, the Finding of No Significant Impact concludes that the proposed action does not constitute a major federal action significantly affecting the quality of the human environment and an environmental impact statement is not required. DLA plans to use a combination of both transportation alternatives.

FOR FURTHER INFORMATION CONTACT: Mr. Jack Hooper at (703) 767-5121.

SUPPLEMENTARY INFORMATION: On August 28, 2002, a Federal Register notice invited public comment on the draft environmental assessment for a period of 30 days. Two comments were received and were considered. The comments and DLA's responses are summarized in Appendix G of the final environmental assessment. The final environmental assessment and the Finding of No Significant Impact are available at the Defense Logistics Agency, Attention: Mr. Jack Hooper, DLA-CP, 8725 John J. Kingman Road, STOP 6220, Fort Belvoir, VA 22060-6221 and on the World Wide Web at http://www.dla.mil/ea082802.asp.

Dated: December 13, 2002.
Richard J. Connelly,
Director, DLA Support Services.

[FR Doc. 02-31840 Filed 12-17-02; 8:45 am]

BILLING CODE 3620-01-M